DEPARTMENT OF AGRICULTURE

Animal and Plant Health Inspection Service

[Docket No. 99-073-2]

Papaya Mealybug; Availability of a Supplement to an Environmental Assessment

AGENCY: Animal and Plant Health Inspection Service, USDA.

ACTION: Notice and request for comments.

SUMMARY: We are advising the public that we have prepared a supplement to an October 1999 environmental assessment that was prepared by the Animal and Plant Health Inspection Service relative to the suppression of the papaya mealybug, Paracoccus marginatus Williams (Homoptera: Pseudococcidae). The supplement examines the environmental release of nonindigenous wasps of the genus Pseudaphycus for use as biological control agents to suppress the papaya mealybug. The supplement has been prepared to provide the public with documentation of APHIS' review and analysis of the environmental impact and plant pest risk associated with releasing these biological control agents into the environment.

DATES: We invite you to comment on this docket. We will consider all comments that we receive by July 28, 2000.

ADDRESSES: Please send your comment and three copies to: Docket No. 99-073-2, Regulatory Analysis and Development, PPD, APHIS, Suite 3C03, 4700 River Road, Unit 118, Riverdale, MD 20737-1238.

Please state that your comment refers to Docket No. 99-073-2.

You may read any comment that we receive on this docket and review copies of the original environmental assessment and the supplement in our reading room. The reading room is located in room 1141 of the USDA South Building, 14th Street and Independence Avenue, SW., Washington, DC. Normal reading room hours are 8 a.m. to 4:30 p.m. Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Dale E. Meyerdirk, Supervisory Agriculturist, Pink Hibiscus Mealybug Program, PPQ, APHIS, 4700 River Road Unit 135, Riverdale, MD 20737-1236; (301) 734-5667. For copies of the supplement and the October 1999 environmental assessment, write to Dr. Meyerdirk at the same address. Please refer to the title of the environmental assessment when ordering copies.

SUPPLEMENTARY INFORMATION: The papaya mealybug, Paracoccus marginatus Williams (Homoptera: Pseudococcidae), can cause serious damage to numerous agricultural products, including papayas, hibiscus, citrus, cotton, and avocados, which can result in significant economic losses. Papaya mealybug exists in Puerto Rico and the U.S. Virgin Islands, has recently been found in a few locations in Florida, and has been intercepted in Texas and California. From Florida, papaya mealybug could spread rapidly through the Gulf States and eventually on to Texas and California. The limits of its spread northward cannot be accurately predicted, but certain greenhouse crops would be at risk, even in cold regions.

On October 19, 1999, we published in the Federal Register (64 FR 56305-56306, Docket No. 99-073-1) a notice announcing the availability of an environmental assessment titled “Control of Papaya Mealybug, Paracoccus marginatus (Homoptera: Pseudococcidae)” (October 1999). In that environmental assessment, we discussed our review and analysis of the environmental impact and plant pest risk associated with the release into the environment of three genera of nonindigenous wasps (Anagyrus, Apoanagyrus, and Acerophagus) as part of a biological control project to suppress papaya mealybug.

Since the publication of our October 1999 notice, a fourth genus of nonindigenous wasp—Pseudaphycus (Hymenoptera: Encrytidae)—that attacks the papaya mealybug has been identified. Research conducted in quarantine has shown Pseudaphycus spp. wasps to be a primary parasite of papaya mealybug, and this genus is only known to attack species of mealybug. Thus, a request has been made to the Animal and Plant Health Inspection Service (APHIS) for the release of Pseudaphycus spp. wasps into the environment for the suppression of papaya mealybug infestations throughout the United States.

The Pseudaphycus spp. wasps will be imported from Mexico into U.S. Department of Agriculture (USDA)-certified insect quarantine facilities at the Beneficial Insects Introduction Research Laboratory (BIIRL) in Newark, DE. At BIIRL, species identifications would be confirmed by USDA and State taxonomists, and undesirable organisms, such as hyperparasites, would be screened out and properly eliminated. Laboratory colonies would be established by APHIS and State cooperators. The wasps would then be released by APHIS and State cooperators in areas invaded by the papaya mealybug. Such areas include the U.S. Virgin Islands, Puerto Rico, and Florida, where the papaya mealybug is now present. The papaya mealybug may also spread to other States due to the presence of hosts and favorable habitats. These areas include Alabama, Arizona, Arkansas, California, Delaware, Georgia, Hawaii, Louisiana, Maryland, Mississippi, Nevada, New Jersey, New Mexico, North Carolina, Oklahoma, South Carolina, Tennessee, Texas, and Virginia. If the papaya mealybug does spread to these areas, APHIS and State cooperators will release the wasps in the affected areas also.

We expect that these stingless wasps would become established and reproduce naturally without further human intervention.

If APHIS does release Pseudaphycus spp. wasps, the release of these wasps will complement our previous releases of Anagyrus, Apoanagyrus, and Acerophagus spp. wasps, which were the first exotic biological control agents approved for release against papaya mealybug in the United States.

To document APHIS' review and analysis of the environmental impact and plant pest risk associated with releasing Pseudaphycus spp. wasps into the environment as biological control agents, we have prepared a supplement to our October 1999 environmental assessment that examined the release into the environment of Anagyrus, Apoanagyrus, and Acerophagus spp. wasps. We are making the supplement to that environmental assessment available to the public for review and comment.

The supplement to our October 1999 environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1B), and (4) APHIS' NEPA Implementing Procedures (7 CFR part 372).

Done in Washington, DC, this 22nd day of June 2000.
Bobby R. Acord,
Acting Administrator, Animal and Plant Health Inspection Service.

[FR Doc. 00-16312 Filed 6-27-00; 8:45 am]

BILLING CODE 3410-34-P